DEPARTMENT OF TRANSPORTATION

Federal Aviation Administration

14 CFR Part 39

[Docket No. FAA-2007-27213; Directorate Identifier 2007-CE-012-AD]

RIN 2120-AA64

Airworthiness Directives; British Aerospace Regional Aircraft Model HP.137 Jetstream Mk.1, Jetstream Series 200, Jetstream Series 3101, and Jetstream Model 3201 Airplanes

AGENCY: Federal Aviation Administration (FAA), Department of Transportation (DOT).

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

Cracking has been found in the nose landing gear steering jack piston rod adjacent to the eye-end. This was caused by the application of excessive tightening torque applied to the eye-end whilst being assembled during component overhaul. Failure of the steering jack piston during operation will result in loss of nose wheel steering, which may lead to loss of directional control during critical phases of take-off and landing.

The proposed AD would require actions that are intended to address the unsafe condition described in the MCAI.

DATES: We must receive comments on this proposed AD by April 16, 2007.

ADDRESSES: You may send comments by any of the following methods:

• DOT Docket Web Site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

Examining the AD Docket

You may examine the AD docket on the Internet at http://dms.dot.gov; or in person at the Docket Management Facility between 9 a.m. and 5 p.m., Monday through Friday, except Federal holidays. The AD docket contains this proposed AD, the regulatory evaluation, any comments received, and other information. The street address for the Docket Office (telephone (800) 647-5227) is in the ADDRESSES section. Comments will be available in the AD docket shortly after receipt.

FOR FURTHER INFORMATION CONTACT: Taylor Martin, Aerospace Engineer, FAA, Small Airplane Directorate, 901 Locust, Room 301, Kansas City, Missouri 64106; telephone: (816) 329-4138; fax: (816) 329-4090.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket No. FAA-2007-27213; Directorate Identifier 2007-CE-012-AD” at the beginning of your comments. We specifically invite comments on the overall regulatory, economic, environmental, and energy aspects of this proposed AD. We will consider all comments received by the closing date and may amend this proposed AD because of those comments.

We will post all comments we receive, without change, to http://dms.dot.gov, including any personal information you provide. We will also post a report summarizing each substantive verbal contact we receive about this proposed AD.

Discussion

On March 25, 2003, we issued AD 2003-07-06, Amendment 39-13102 (68 FR 16195, April 3, 2003). That AD required actions intended to address an unsafe condition on the products listed above.

Since we issued AD 2003-07-06, following the completion of their testing, the equipment manufacturer has determined that the fatigue life needs further revision (reduction) and has published inspection criteria and a revised formula for calculating the piston safe life. This calculation and a revised end fitting tightening torque are contained in Revision 1 to APPH Ltd. Service Bulletin 32-76. As a result, pistons, which were previously calculated to have significant remaining life, may now be unserviceable.

The Civil Aviation Authority, which is the aviation authority for the United Kingdom, has issued AD No. G-2004-0029, dated December 20, 2004 (referred to after this as “the MCAI”), to correct an unsafe condition for the specified products. The MCAI states:

Cracking has been found in the nose landing gear steering jack piston rod adjacent to the eye-end. This was caused by the application of excessive tightening torque applied to the eye-end whilst being assembled during component overhaul. Failure of the steering jack piston during operation will result in loss of nose wheel steering, which may lead to loss of directional control during critical phases of take-off and landing.

The MCAI requires:

The inspections and any required rectification actions detailed in BAe Systems Service Bulletin 32-JA030644 and associated APPH Service Bulletin 32-76 Revision 1 are required to be performed to ensure continued airworthiness of the aircraft.

You may obtain further information by examining the MCAI in the AD docket.

Relevant Service Information

BAE Systems has issued British Aerospace Jetstream Series 3100 & 3200 Service Bulletin 32-JA030644, dated October 6, 2003. APPH Ltd. has issued Service Bulletin 32-76, Revision 1, dated August 2003. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 190 products of U.S. registry. We also estimate that it would take about 2 work-hours per product to comply with the basic requirements of this proposed AD. The average labor rate is $80 per work-hour.

Based on these figures, we estimate the cost of the proposed AD on U.S. operators to be $30,400, or $160 per product.

In addition, we estimate that any necessary follow-on actions would take about 8 work-hours and require parts costing $5,300, for a cost of $5,940 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2003-07-06, Amendment 39-13102 (68 FR 16195, April 3, 2003), and adding the following new AD:

British Aerospace Regional Aircraft: Docket No. FAA-2007-27213; Directorate Identifier 2007-CE-012-AD.

Comments Due Date

(a) We must receive comments by April 16, 2007.

Affected ADs

(b) Supersedes AD 2003-07-06, Amendment 39-13102.

Applicability

(c) This AD applies to Model HP.137 Jetstream Mk.1, Jetstream Series 200, Jetstream Series 3101, and Jetstream Model 3201 airplanes, all serial numbers, certificated in any category.

Subject

(d) Air Transport Association of America (ATA) Code 32: Landing Gear.

Reason

(e) The mandatory continuing airworthiness information (MCAI) states:

Cracking has been found in the nose landing gear steering jack piston rod adjacent to the eye-end. This was caused by the application of excessive tightening torque applied to the eye-end whilst being assembled during component overhaul. Failure of the steering jack piston during operation will result in loss of nose wheel steering, which may lead to loss of directional control during critical phases of take-off and landing.

Retained Requirements of AD 2003-07-06

(f) Unless already done, do the following actions in accordance with the procedures in APPH Ltd. Service Bulletin 32-76 (pages 1, 2, and 4 through 7, dated October 2002; and page 3, Erratum 1, dated November 2002), as referenced in BAe Systems British Aerospace Jetstream Mandatory Service Bulletin 32-JA020741, Original Issue: November 2, 2002; or APPH Ltd. Service Bulletin 32-76, Revision 1, dated August 2003, as referenced in BAe Systems British Aerospace Jetstream Mandatory Service Bulletin 32-JA030644, Original Issue: October 6, 2003.

(1) Within the next 90 days or 200 ground-air-ground (GAG) cycles after May 22, 2003 (the effective date of AD 2003-07-06), whichever occurs first, inspect the steering jack piston rod for cracks.

(2) If cracks are found, replace the cracked steering jack piston rod. Install the new steering jack piston rod using a torque setting of 175 lbf (pound force) inch or 20 Nm (Newton meters) when tightening the end fitting and stop bolt.

(3) If no cracks are found, determine the torque setting of the steering jack piston rod end fitting and stop bolt.

New Requirements of This AD: Actions and Compliance

(g) Unless already done, do the following actions:

(1) Within 90 days after the effective date of this AD, recalculate the safe life of the steering jack piston rod and re-torque the piston rod eye-end in accordance with APPH Ltd. Service Bulletin 32-76, Revision 1, dated August 2003, as referenced in paragraph 2, Part 2 of BAe Systems Service Bulletin 32-JA030644, dated October 6, 2003.

(2) If the piston rod is found unserviceable when inspected in accordance with APPH Ltd. Service Bulletin 32-76, Revision 1, dated August 2003, as referenced in paragraph 2, Part 2 of BAe Systems Service Bulletin 32-JA030644, dated October 6, 2003, before further flight remove the steering jack and replace with a serviceable unit.

(3) As of the effective date of this AD, before a steering jack piston rod is installed, it must be inspected and the safe life determined in accordance APPH Ltd. Service Bulletin 32-76, Revision 1, dated August 2003, as referenced in paragraph 2 of BAe Systems Service Bulletin 32-JA030644, dated October 6, 2003.

FAA AD Differences

Note: This AD differs from the MCAI and/or service information as follows: No differences.

Other FAA AD Provisions

(h) The following provisions also apply to this AD:

(1) Alternative Methods of Compliance (AMOCs): The Manager, Standards Staff, FAA, Small Airplane Directorate, ATTN: Taylor Martin, Aerospace Engineer, 901 Locust, Room 301, Kansas City, Missouri 64106; telephone: (816) 329-4138; fax: (816) 329-4090, has the authority to approve AMOCs for this AD, if requested using the procedures found in 14 CFR 39.19. Before using any approved AMOC on any airplane to which the AMOC applies, notify your appropriate principal inspector (PI) in the FAA Flight Standards District Office (FSDO), or lacking a PI, your local FSDO.

(2) AMOCs approved for AD 2003-07-06 are not approved for this AD.

(3) Airworthy Product: For any requirement in this AD to obtain corrective actions from a manufacturer or other source, use these actions if they are FAA-approved. Corrective actions are considered FAA-approved if they are approved by the State of Design Authority (or their delegated agent). You are required to assure the product is airworthy before it is returned to service.

(4) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI Civil Aviation Authority AD No. G-2004-0029, dated December 20, 2004; BAE Systems British Aerospace Jetstream Series 3100 & 3200 Service Bulletin 32-JA030644, dated October 6, 2003; BAe Systems British Aerospace Jetstream Mandatory Service Bulletin 32-JA020741, Original Issue: November 2, 2002; APPH Ltd. Service Bulletin 32-76, Revision 1, dated August 2003; and APPH Ltd. Service Bulletin 32-76 (pages 1, 2, and 4 through 7, dated October 2002; and page 3, Erratum 1, dated November 2002, for related information.

Issued in Kansas City, Missouri, on March 8, 2007.
David R. Showers,
Acting Manager, Small Airplane Directorate, Aircraft Certification Service.

[FR Doc. E7-4739 Filed 3-14-07; 8:45 am]

BILLING CODE 4910-13-P